DEPARTMENT OF ENERGY

Federal Energy Regulatory Commission

Notice of Application To Amend Recreation Plan and Soliciting Comments, Motions To Intervene, and Protests

January 25, 2006.

Take notice that the following application has been filed with the Commission and is available for public inspection:

a. Application Type: Amendment of License.

b. Project No: 2157-166.

c. Date Filed: December 15, 2005.

d. Applicant: Public Utility District No. 1 of Snohomish County, Washington and the City of Everett.

e. Name of Project: Henry M. Jackson Project.

f. Location: The project is located on Sulton River, in Snohomish County, Washington. This project occupies about 1,939 acres of federal lands administered by the U.S. Forest Service.

g. Filed Pursuant to: Federal Power Act, 16 U.S.C. 791(a) 825(r) and 799 and 801.

h. Applicant Contact: Mr. Clare Olivers, Public Utility District No. 1 of Snohomish County, 2320 California Street, P.O. Box 1107, Everett, WA 98206, (425) 783-8606.

i. FERC Contacts: Any questions on this notice should be addressed to Mr. Jon Cofrancesco at (202) 502-8951, or e-mail address: jon.cofrancesco@ferc.gov.

j. Deadline for filing comments and or motions: February 14, 2006.

All documents (original and eight copies) should be filed with: Ms. Magalie R. Salas, Secretary, Federal Energy Regulatory Commission, 888 First Street, NE., Washington DC 20426. Please include the project number (P-2157-166) on any comments or motions filed. Comments, protests, and interventions may be filed electronically via the Internet in lieu of paper. See, 18 CFR 385.2001(a)(1)(iii) and the instructions on the Commission's web site under the “e-Filing” link. The Commission strongly encourages e-filings.

k. Description of the Application: On December 15, 2005, Public Utility District No. 1 of Snohomish County and the City of Everett (co-licensees) filed an application to amend the project's recreation plan. The co-licensees have implemented security measures to protect project hydroelectric facilities, including gate closures across Culmback Dam Road, immediately north and south of the dam. These closures prevent all public access across the dam, including access to project recreation area No. 6 (a scenic overlook adjacent to the dam) and access from the south to recreation areas Nos. 7 and 8, located on the north side of the project reservoir. Pedestrian access to recreation areas Nos. 7 and 8 remains available via a road along northwest side of the reservoir. The co-licensees' application reflects the proposed public access restrictions to the above recreation areas.

l. Location of the Application: The filing is available for review at the Commission in the Public Reference Room, located at 888 First Street, NE., Room 2A, Washington, D.C. 20426, or may be viewed on the Commission's Web site at http://www.ferc.gov using the “eLibrary” link. Enter the docket number excluding the last three digits in the docket number field to access the document. For assistance, please contact FERC Online support at FERCOnLineSupport@ferc.gov or toll free (866) 208 3676 or TTY, contact (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, or “MOTION TO INTERVENE”, as applicable, and the Project Number of the particular application to which the filing refers. A copy of any motion to intervene must also be served upon each representative of the Applicant specified in the particular application.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Magalie R. Salas,
Secretary.

[FR Doc. E6-1251 Filed 1-31-06; 8:45 am]

BILLING CODE 6717-01-P